INTERNATIONAL TRADE COMMISSION

Proposed Agency Information Collection; Comment Request

AGENCY: United States International Trade Commission.

ACTION: Notice of proposed information collection and request for comment.

DATES: Effective Date: May 19, 2006.

SUMMARY: Pursuant to the Paperwork Reduction Act of 1995, the U.S. International Trade Commission intends to seek approval from the Office of Management and Budget for a three-year extension of the currently approved DataWeb user registration form (OMB No.: 3117-0190) in connection with the ITC DataWeb. The user registration form is required to accurately analyze usage and data reports generated by user sectors and to save user product and country lists for user reference during future logins.

Comments concerning the proposed information collection are requested in accordance with 5 CFR 1320.8(d).

DATES: To be assured of consideration, written comments must be received not later than 60 days after publication of this notice.

ADDRESSES: Signed comments should be submitted to Marilyn Abbott, Secretary, U.S. International Trade Commission, 500 E Street SW., Washington, DC 20436. All comments should be specific, indicating which part of the form is objectionable, describing the concern in detail, and including specific suggested revisions or language changes.

FOR FURTHER INFORMATION CONTACT: A copy of the proposed form is available on the internet at http://dataweb.usitc.gov/scripts/user_set.asp under “Create New Account”. A copy of the draft Supporting Statement to be submitted to the Office of Management and Budget may be obtained from Peg MacKnight, Office of Operations, U.S. International Trade Commission, 500 E Street, SW., Washington, DC 20436 (telephone no. 202-205-343; e-mail peggy.macknight@usitc.gov).

Request for Comments

Comments are solicited as to (1) whether the proposed information collection is necessary for the proper performance of the functions of the agency, including whether the information will have practical utility; (2) the accuracy of the agency's estimate of the burden of the proposed information collection, including the validity of the methodology and assumptions used; (3) the quality, utility, and clarity of the information to be collected; and (4) minimization of the burden of the proposed information collection on those who are to respond (including through the use of appropriate automated, electronic, mechanical, or other forms of information technology, e.g., permitting electronic submission of responses).

Summary of the Proposed Information Collection

The forms are for use by the Commission in connection with the ITC DataWeb. The ITC DataWeb provides on-line, rapid and customized retrieval of U.S. trade and tariff data and has been an Internet tool primarily for government users. The user registration forms are required to accurately track usage, data reports generated, and costs by user sectors and to save user product and country lists for user reference during future logins. The forms appear on the ITC DataWeb internet site (http://dataweb.usitc.gov) and need to be filled out only once.

Summary of Proposal

(1) Number of forms submitted: One.

(2) Title of forms: ITC Tariff and Trade DataWeb: “Create New User Account Form.”

(3) Type of request: Extension.

(4) Frequency of use: Single data gathering.

(5) Description of respondents: Government and private sector users of the on-line ITC DataWeb.

(6) Estimated number of respondents: 20,000 Annually.

(7) Estimated total number of minutes to complete the forms: 2.0 Minutes.

(8) Information obtained from the forms that qualify as confidential business information will be so treated by the Commission and not disclosed in a manner that would reveal the individual operations of a firm.

Hearing impaired individuals are advised that information on this matter can be obtained by contacting our TTD terminal (telephone no. 202-205-1810). General information concerning the Commission may also be obtained by accessing its Internet server (http://www.usitc.gov).

By order of the Commission.
Issued: May 22, 2006.
Marilyn R. Abbott,
Secretary to the Commission.

[FR Doc. E6-8093 Filed 5-25-06; 8:45 am]

BILLING CODE 7020-02-P